DEPARTMENT OF COMMERCE

National Oceanic and Atmospheric Administration

RIN 0648-XO76

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS, has made a preliminary determination that the subject exempted fishing permit (EFP) application contains all the required information and warrants further consideration. Therefore, NMFS announces that the Assistant Regional Administrator proposes to recommend that an EFP be issued that would allow one commercial fishing vessel to conduct fishing operations that are otherwise restricted by the regulations governing the fisheries of the Northeastern United States. The EFP, which would enable the applicants to investigate the selectivity of different groundfish trawl codend configurations with a small-mesh cover, would allow for exemptions for one vessel from the Northeast (NE) Multispecies Fishery Management Plan (FMP) as follows: NE multispecies Gulf of Maine (GOM) minimum mesh size. In addition, this EFP would allow temporary exemptions from the NE Multispecies and Monkfish FMPs, per the stipulations detailed in this document, as follows: NE multispecies minimum fish sizes; NE multispecies possession restrictions; monkfish minimum fish sizes; and monkfish possession restrictions.

Regulations under the Magnuson-Stevens Fishery Conservation and Management Act require publication of this notification to provide interested parties the opportunity to comment on applications for proposed EFPs.

DATES: Comments must be received on or before May 21, 2009.

ADDRESSES: Comments may be submitted by email to Modified.codend.EFP@noaa.gov. Written comments should be sent to Patricia A. Kurkul, Regional Administrator, NMFS, Northeast Regional Office, 55 Great Republic Drive, Gloucester, MA 01930. Mark the outside of the envelope “Comments on the Codend Modification Study.” Comments may also be sent via facsimile (fax) to (978) 281-9135.

FOR FURTHER INFORMATION CONTACT: Melissa Vasquez, Fishery Management Specialist, (978) 281-9166, fax (978) 281-9135.

SUPPLEMENTARY INFORMATION: A complete application for an EFP for this project was submitted on April 6, 2009, by Steve Eayrs of the Gulf of Maine Research Institute (GMRI) for the F/V Skipper (Federal permit #250573). The primary goal of this EFP is to assess the impact of codend modification on reducing catches of undersized groundfish and non-targeted fish by trawl gear. This project builds on the results of an EFP issued for the 2008 fishing year, which tested the efficacy of removing chafing nets from codends to reduce undersized bycatch. This EFP would compare the catch composition and selectivity of three codend configurations to determine which may reduce undersized and non-commercial catch.

This EFP would be issued to GMRI and Captain Glen Libby of the F/V Skipper to conduct 25 at-sea days of experimental fishing in the GOM north of the Cashes Ledge Habitat Closure Area and east of the Jeffery's Bank Habitat Closure Area (see Table 1). Fishing would not overlap with any GOM Rolling Closure Areas.

Table 1: Coordinates for the Experimental Fishing Area
Point | Latitude | Longitude
1 | 44°00′ N | 68°50′ W
2 | 44°00′ N | 69°40′ W
3 | 43°20′ N | 69°40′ W
4 | 43°20′ N | 68°50′ W

The researchers would conduct sea trials over two 10-day periods in June and August 2009. As a condition of the EFP, this vessel would complete no more than 150 tows overall or six tows per day. Researchers would conduct 1-hour tows using one of three codend configurations: A standard 6.5-inch (16.5-cm) diamond-mesh codend, 7-inch (17.8-cm) square-mesh codend, and a composite codend with a 6.5-inch (16.5-cm) square-mesh upper section and a 6.5-inch (16.5-cm) diamond-mesh lower section. Each codend would be tested at least twice each day, for an estimated six tows per day and a minimum of 120 total tows. A small-mesh cover net (~ 2-inch (5.08-cm) mesh size, depending upon availability) would be fitted around each codend to retain all fish that escape the codend so they may be sampled along with the catch for species count, weight, and length. The species composition and selectivity of each tow would be compared to determine which codend configuration may reduce catch of undersized groundfish and improve trawl selectivity. An additional 5 days, with up to 30 additional 1-hour tows, may be used to film fish interactions with the gears and to accommodate for sampling problems.

The applicants have asked for an exemption from the minimum GOM regulated mesh size specified at 50 CFR 648.80(a)(3)(i) so that they may install a small-mesh cover net around the codend to sample the variability in bycatch released from each of the four codend configurations. The applicants have also asked for temporary exemptions from the following regulations: NE multispecies minimum fish sizes (§ 648.83); NE multispecies possession restrictions (§ 648.86), monkfish minimum fish sizes (§ 648.93); and monkfish possession restrictions (§ 648.94). These exemptions are necessary to allow sampling of undersized fish and fish in excess of the possession limit; however, these exemptions would not permit the landing of fish outside of regular A days-at-sea (DAS) possession limits. These exemptions are only for the time period when trained technicians or crew are measuring, weighing, or sampling fish that would otherwise be immediately discarded.

During the 25 at-sea days of comparative fishing trials, the F/V Skipper would use A DAS and would be subject to all day and trip possession limits, with the exemptions listed above. As a condition of this EFP, all undersized fish or fish that cannot legally be landed (i.e., in excess of possession limits) would be returned to the sea as quickly as possible after sampling. The applicants anticipate a total harvest of 37,500 lb (17,010 kg), and an additional 17,500 lb (7,938 kg) of discards composed of undersized NE multispecies in similar proportions to the anticipated catch, as well as dogfish and skates (Table 2). The estimated GOM cod catch per day for the proposed number of DAS permitted with this EFP would be 32 percent of the current daily possession limit of 800 lb (362.9 kg). All legal-sized fish, within the possession limit, would be landed and sold.

Table 2: Estimated Total Catch and Discards by Species
Species | Catch in lb (kg) | Discards in lb (kg)
Haddock | 6,250 (2,835) | 0
Cod | 6,250 (2,835) | 0
Grey Sole | 6,250 (2,835) | 0
American Plaice | 6,250 (2,835) | 0
Monkfish | 6,250 (2,835) | 0
Pollock | 2,500 (1,134) | 0
Hake & other | 3,750 (1,701) | 0
Skate sp. | 0 | 2,500 (1,134)
Dogfish | 0 | 2,500 (1,134)
Undersized NE multispecies | 0 | 12,500 (5,670)

The applicants may request minor modifications and extensions to the EFP throughout the course of research. EFP modifications and extensions may be granted without further public notice if they are deemed essential to facilitate completion of the proposed research and result in only a minimal change in the scope or impacts of the initially approved EFP request.

In accordance with NAO Administrative Order 216-6, a Categorical Exclusion or other appropriate NEPA document would be completed prior to the issuance of the EFP. Further review and consultation may be necessary before a final determination is made to issue the EFP. After publication of this document in the Federal Register, the EFP, if approved, may become effective following the public comment period.

Authority: 16 U.S.C. 1801 et seq.

Dated: May 1, 2009.
Alan D. Risenhoover
Director, Office of Sustainable Fisheries, National Marine Fisheries Service.

[FR Doc. E9-10511 Filed 5-5-09; 8:45 am]

BILLING CODE 3510-22-S